DEPARTMENT OF STATE

[Public Notice 3953]

M/DGHR/MED/EX; 60-Day Notice of Proposed Information Collection: Form DS-1622, Medical History and Examination for Foreign Service—For Children 11 Years and Under; Form DS-1843, Medical History and Examination for Foreign Service—For Persons 12 Years and Over; (OMB# 1405-0068)

ACTION: Notice.

SUMMARY: The Department of State is seeking Office of Management and Budget (OMB) approval for the information collection described below. The purpose of the notice is to allow 60 days for public comment in the Federal Register preceding submission to OMB. This process is conducted in accordance with the Paperwork Reduction Act of 1995.

The following summarizes the information collection proposal to be submitted to OMB:

Type of Request: Extension of a current collection.

Originating Office: Office of Medical Services, M/DGHR/MED.

Title of Information Collection: Medical History and Examination for Foreign Service—For Children 11 years and Under; Medical History and Examination for Foreign Service—For Persons 12 Years and Over.

Frequency: Biennially.

Form Number: DS-1622 and DS-1843.

Respondents: Candidates for Foreign Service Positions and their Eligible Family Members.

Estimated Number of Respondents: 12,000.

Average Hours Per Response: One Hour.

Total Estimated Burden: 12,000 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER ADDITIONAL INFORMATION: Public comments, or requests for additional information regarding the collection listed in this notice should be directed to John A. Triplett, M.D., Office of Medical Services, 2401 E Street, NW., Room 201, U.S. Department of State, Washington, DC 20520.

Dated: March 11, 2002.
Maria C. Melchiorre,
Acting Executive Director, Office of Medical Services, Department of State.

[FR Doc. 02-7239 Filed 3-25-02; 8:45 am]

BILLING CODE 4710-36-P